DEPARTMENT OF THE TREASURY

Alcohol and Tobacco Tax and Trade Bureau

[Docket No. TTB-2019-0001]

Proposed Information Collections; Comment Request (No. 74)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before July 22, 2019.

ADDRESSES: As described below, you may send comments on the information collections described in this document using the “Regulations.gov” online comment form for this document, or you may send written comments via U.S. mail or hand delivery. We no longer accept public comments via email or fax.

• Internet: To submit comments online, use the comment form for this document posted within Docket No. TTB-2019-0001 on the “Regulations.gov” e-rulemaking website at https://www.regulations.gov;

• U.S. Mail: Send comments to the Paperwork Reduction Act Officer, Regulations and Rulings Division, Alcohol and Tobacco Tax and Trade Bureau, 1310 G Street NW, Box 12, Washington, DC 20005.

• Hand Delivery/Courier: Delivery comments to the Paper Reduction Act Officer, Regulations and Rulings Division, Alcohol and Tobacco Tax and Trade Bureau, 1310 G Street NW, Suite 400, Washington, DC 20005.

Please submit separate comments for each specific information collection described in this document. You must reference the information collection's title, form or recordkeeping requirement number, and OMB control number (if any) in your comment.

You may view copies of this document, the information collections described in it and any associated instructions, and all comments received in response to this document within Docket No. TTB-2019-0001 at https://www.regulations.gov. A link to that docket is posted on the TTB website at https://www.ttb.gov/forms/comment-on-form.shtml. You may also obtain paper copies of this document, the information collections described in it and any associated instructions, and any comments received in response to this document by contacting Michael Hoover at the addresses or telephone number shown below.

FOR FURTHER INFORMATION CONTACT: Michael Hoover, Regulations and Rulings Division, Alcohol and Tobacco Tax and Trade Bureau, 1310 G Street NW, Box 12, Washington, DC 20005; 202-453-1039, ext. 135; or informationcollections@ttb.gov (please do not submit comments to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections described below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

An agency may not conduct or sponsor, and a person is not required to respond to, a collection of information unless the collection of information has a valid OMB control number.

Information Collections Open for Comment

Currently, we are seeking comments on the following forms, letterhead applications or notices, recordkeeping requirements, questionnaires, or surveys:

OMB Control No. 1513-0002

Title: Personnel Questionnaire—Alcohol and Tobacco Products.

TTB Form Number: TTB F 5000.9.

Abstract: Provisions of the Internal Revenue Code (IRC; 26 U.S.C chapters 51 and 52) and the Federal Alcohol Administration Act (FAA Act; 27 U.S.C. 201 et seq.) require persons wishing to engage in certain alcohol and tobacco activities to obtain a permit, or approval of a notice or registration, from the Secretary of the Treasury (the Secretary) before beginning operations. The IRC and FAA Act provide that an applicant is not eligible for such permits or approvals if the Secretary finds that the applicant, (including company officers, directors, or principal investors) is not likely to lawfully operate or has certain criminal convictions. Under its delegated IRC and FAA Act authorities, the TTB regulations authorize the collection of information from applicants so that TTB can determine if they meet the minimum statutory and regulatory qualifications for alcohol and tobacco permits, notices, or registrations. To assist TTB in making such determinations, applicants use form TTB F 5000.9, Personnel Questionnaire—Alcohol and Tobacco, or its web-based Permits Online equivalent, to provide TTB with information regarding their identity, business history and financing, and criminal record, if any.

Current Actions: TTB is submitting this collection as a revision due to program changes made at the Bureau's discretion. TTB has revised TTB F 5000.9 and its electronic Permits Online equivalent to reduce the amount of information collected and lower the per-respondent burden associated with this information collection. TTB has removed certain data fields that it no longer needs to determine a respondent's identity or eligibility; the removed data fields include the respondent's residence and employment history, citizenship status, plans for additional investments in the applicant business, and bank reference. TTB estimates that removal of those data fields will reduce the per-respondent burden for this collection by at least 20 minutes, resulting in a per-respondent burden of 60 minutes for the TTB F 5000.9 form and 50 minutes for its electronic Permits Online equivalent. These program changes will reduce the estimated total annual burden for this information collection by 4,033 hours. In addition, due to a change in agency estimates, TTB is reducing the number of annual respondents to this information collection from 14,283 to 9,350 (a reduction of 2,750), which further reduces the estimated total annual burden for this collection by 2,292 hours.

Type of Review: Revision of a currently-approved collection.

Affected Public: Individuals or households.

Estimated Annual Burden

• Number of Respondents: 9,350.

• Average Responses per Respondent: 1 (on occasion).

• Number of Responses: 9,350.

• Average Per-response Burden: 51 minutes.

• Total Burden: 7,958 hours.

OMB Control No. 1513-0035

Title: Inventory—Export Warehouse Proprietor.

TTB Form Number: TTB F 5220.3.

Abstract: The IRC at 26 U.S.C. 5721 requires export warehouse proprietors to take inventories of all tobacco products, processed tobacco, and cigarette papers and tubes on hand at the commencement of business, the conclusion of business, and at other times as the Secretary prescribes by regulation. Under that authority, the TTB regulations in 27 CFR part 44 require export warehouse proprietors to report their inventory of tobacco products, processed tobacco, and cigarette papers and tubes using TTB F 5220.3, Inventory—Export Warehouse Proprietor, when beginning or discontinuing business, when certain changes in ownership or control of the business occur, or when required to by the appropriate TTB officer. As authorized by the IRC at 26 U.S.C. 5741, the TTB regulations also require export warehouse proprietors to retain a file copy of each such inventory report for 3 years, available for TTB inspection upon request.

Current Actions: There are no changes to this information collection, and TTB is submitting it for extension purposes only. However, TTB is decreasing the number of respondents, responses, and burden hours associated with this information collection due to a decrease in the number of export warehouse proprietors.

Type of Review: Extension of a currently approved collection.

Affected Public: Businesses and other for-profits.

Estimated Annual Burden

• Number of Respondents: 82.

• Average Responses per Respondent: 1 per year.

• Number of Responses: 82.

• Average Per-response Burden: 5 hours.

• Total Burden: 410 hours.

OMB Control No. 1513-0045

Title: Distilled Spirits Plants—Excise Taxes (TTB REC 5110/06).

TTB Recordkeeping Number: TTB REC 5110/06.

Abstract: Under chapter 51 of the IRC, distilled spirits produced or imported into the United States are subject to Federal excise tax, which is determined at the time the spirits are withdrawn from bond and which is paid by return, subject to regulations prescribed by the Secretary. In addition, a credit may be taken against that tax for the portion of a distilled spirits product's alcohol content derived from wine or flavors. The TTB regulations in 27 CFR parts 19 and 26 require distilled spirits excise taxpayers to keep certain records in support of the information provided on their excise tax returns, including information on the distilled spirits removed from their premises and the products' applicable tax rates, as well as records related to nontaxable removals, shortages, and losses. The required records are necessary to protect the revenue as TTB uses the data collected to ensure the appropriate amount of tax is paid, to verify claims for refunds or remission of tax, and to account for the transfer of certain distilled spirits excise taxes to the governments of Puerto Rico and the U.S. Virgin Islands.

Current Actions: There are no changes to this information collection, and TTB is submitting it for extension purposes only. However, TTB is increasing the number of reported respondents, responses, and burden hours associated with this information collection due to continued growth in the number of distilled spirits plants.

Type of Review: Extension of a currently approved collection.

Affected Public: Businesses and other for-profits.

Estimated Annual Burden

• Number of Respondents: 3,160.

• Average Responses per Respondent: 26 per year.

• Number of Responses: 82,160.

• Average Per-response Burden: 1 hour.

• Total Burden: 82,160 hours.

OMB Control No. 1513-0046

Title: Formula for Distilled Spirits under the Federal Alcohol Administration Act.

TTB Form Number: TTB F 5110.38.

Abstract: The FAA Act at 27 U.S.C. 205(e) authorizes the Secretary to issue regulations regarding the labeling of distilled spirits products to prevent consumer deception, to provide the consumer with adequate information as to the identity and quality of such products, and to require a statement of composition in certain cases of distilled spirits produced by blending or rectification or if neutral spirits were used in the product's production, while the IRC at 26 U.S.C. 5222(c), 5223, and 5232, authorizes the Secretary to issue regulations regarding the removal and addition of extraneous substances to distilling materials or the redistillation of domestic and imported spirits. Under those authorities, the TTB regulations in 27 CFR parts 5, 19, and 26 require proprietors to obtain TTB approval of formulas for distilled spirits products when operations such as blending, mixing, purifying, refining, compounding, or treating, change the character, composition, class, or type of the spirits. Such formulas are now filed using TTB F 5110.10, although TTB continues to allow industry members to file the information using the legacy form TTB F 5110.38. Respondents use this form to list ingredients, and, in some cases, the process used to produce the product. The collected information allows TTB to determine whether a distilled spirits product meets the applicable statutory and regulatory requirements.

Current Actions: There are no changes to this information collection, and TTB is submitting it for extension purposes only. However, due to a change in agency estimates, TTB is increasing the number of respondents, responses, and burden hours associated with this information collection from 30 each to 50 each.

Type of Review: Extension of a currently approved collection.

Affected Public: Businesses or other for-profits.

Estimated Annual Burden

• Number of Respondents: 50.

• Average Responses per Respondent: 1 (on occasion).

• Number of Responses: 50.

• Average Per-response Burden: 1 hour.

• Total Burden: 50 hours.

OMB Control No. 1513-0063

Title: Stills: Notices, Registration, and Records.

TTB Recordkeeping Number: TTB REC 5150/8.

Abstract: The IRC, at 26 U.S.C. 5101 and 5179, allows the Secretary to issue regulations to require manufacturers of stills to submit notices regarding the manufacture and setup of stills, and it requires all persons who possess or have custody of a still to register it with the Secretary and provide information as to its location, type, capacity, ownership, and the purpose for which it will be used. Under those authorities, the TTB regulations in 27 CFR part 29 require still manufacturers to provide certain notices and keep certain records regarding the manufacture and setup of stills. Those regulations also require still owners to register their stills with TTB and provide certain notices and keep certain records regarding such registrations and changes in ownership or location of stills.

Current Actions: TTB is submitting this information collection for extension purposes only, and there are no changes to the collection or its estimated annual burden.

Type of Review: Extension of a currently approved collection.

Affected Public: Businesses or other for-profits.

Estimated Annual Burden

• Number of Respondents: 10.

• Average Responses per Respondent: 4 per year.

• Number of Responses: 40.

• Average Per-response Burden: 1 hour.

• Total Burden: 40 hours.

OMB Control No. 1513-0068

Title: Records of Operations—Manufacturer of Tobacco Products or Processed Tobacco.

TTB Recordkeeping Number: TTB REC 5210/1.

Abstract: The IRC at 26 U.S.C. 5741 requires manufacturers of tobacco products, cigarette papers or tubes, or processed tobacco to keep records, subject to Government inspection, as the Secretary prescribes by regulation. Under that authority, the TTB regulations in 27 CFR part 40 require such manufacturers to keep daily records regarding raw materials received and products manufactured, removed, returned, consumed, transferred, destroyed, lost, or disclosed as shortages. Those regulations provide that manufacturers may use usual and customary commercial records, where possible, to keep and maintain the required data, provided that TTB may readily ascertain the information. Also, manufacturers must maintain the required records for 3 years and make them available for TTB inspection upon request. This information collection is necessary to provide accountability over the receipt, production, and disposition of tobacco products, cigarette papers and tubes, and processed tobacco in order to prevent diversion and protect the revenue.

Current Actions: There are no changes to this information collection, and TTB is submitting it for extension purposes only. However, TTB is decreasing the number of annual respondents, responses, and burden hours reported for this information collection due to a decrease in the number of tobacco product manufacturers.

Type of Review: Extension of a currently approved collection.

Affected Public: Businesses or other for-profits.

Estimated Annual Burden

• Number of Respondents: 235.

• Average Responses per Respondent: 1 per year.

• Number of Responses: 235.

• Average Per-response Burden: 2 hours. (This burden estimate allows for the potential that not all of the information required under this collection can be derived from usual and customary business records.)

• Total Burden: 470 hours.

OMB Control No. 1513-0070

Title: Tobacco Export Warehouse—Record of Operations.

TTB Recordkeeping Number: TTB REC 5220/1.

Abstract: In general, export warehouses store untaxpaid tobacco products and cigarette papers and tubes, and processed tobacco which is not subject to tax, until those commodities are exported. The IRC at 26 U.S.C. 5741 requires export warehouse proprietors to keep records regarding such commodities, subject to Government inspection, as the Secretary prescribes by regulation. Under that authority, the TTB regulations in 27 CFR part 44 require export warehouse proprietors to keep records showing the date, kind, and quantity of tobacco products, cigarette papers and tubes, and processed tobacco received, removed, transferred, destroyed, lost, or returned to a manufacturer or customs bonded warehouse proprietor. Those regulations also provide that respondents may use usual and customary commercial records to keep and maintain the required data, provided that TTB may readily ascertain the information. In addition, the regulations state that respondents must maintain the required records for 3 years and make them available for TTB inspection upon request. This information collection is necessary to provide accountability over the transfer and export of tobacco products, cigarette papers and tubes, and processed tobacco to protect the revenue by preventing the diversion of untaxed commodities into the domestic market.

Current Actions: There are no changes to this information collection, and TTB is submitting it for extension purposes only. However, TTB is decreasing the number of respondents and responses reported for this collection due to a decrease in the number of export warehouse proprietors.

Type of Review: Extension of a currently approved collection.

Affected Public: Businesses and other for-profits.

Estimated Annual Burden

• Number of Respondents: 70.

• Average Responses per Respondent: 1 (ongoing recordkeeping).

• Number of Responses: 70.

• Average Per-response and Total Burden: None. (Per the OMB regulation at 5 CFR 1320.3(b)(2), there is no burden associated with the collection of usual of customary records kept during the normal course of business.)

OMB Control No. 1513-0072

Title: Applications and Notices—Manufacturers of Nonbeverage Products.

TTB Recordkeeping Number: TTB REC 5530/1.

Abstract: The IRC, at 26 U.S.C. 5111-5114, authorizes manufacturers of nonbeverage products to claim drawback (refund) of all but $1.00 per proof gallon of the Federal excise tax paid on any distilled spirits used in the manufacture of such products, and it authorizes the Secretary to require a bond or other security for such drawback claims. Under that IRC authority, the TTB regulations in 27 CFR part 17 require manufacturers of nonbeverage products using distilled spirits on which drawback will be claimed to register as such, and to submit certain letterhead applications and notices. Such manufacturers must submit applications, which require TTB approval, for nonbeverage distilled spirits operations that present the most jeopardy to the revenue, while manufacturers submit notices, which do not require TTB approval, for such activities that present less jeopardy to the revenue. This information collection allows TTB to ensure that nonbeverage distilled spirits operations are in compliance with Federal law, and to protect the revenue as it accounts for, and deters diversion of, distilled spirits to taxable beverage uses.

Current Actions: There are no changes to this information collection, and TTB is submitting it for extension purposes only. However, TTB is decreasing the number of annual respondents, responses, and burden hours reported for this collection due to a decrease in the number applications and notices received from nonbeverage product manufacturers.

Type of Review: Extension of a currently approved collection.

Affected Public: Businesses and other for-profits.

Estimated Annual Burden

• Number of Respondents: 350.

• Average Responses per Respondent: 2 per year.

• Number of Responses: 700.

• Average Per-response Burden: 30 minutes.

• Total Burden: 350 hours.

OMB Control No. 1513-0077

Title: Records of Things of Value to Retailers, and Occasional Letter Reports from Industry Members Regarding Information on Sponsorships, Advertisements, Promotions, etc. under the FAA Act.

TTB Recordkeeping Number: TTB REC 5190/1.

Abstract: The FAA Act at 27 U.S.C. 205 generally prohibits alcohol beverage producers, importers, or wholesalers from offering inducements to alcohol retailers—giving things of value or conducting certain types of advertisements, promotions, or sponsorships—unless such an action is specifically exempted by regulation. Under that FAA Act authority, the TTB regulations in 27 CFR part 6, “Tied-House,” describe exceptions to the general FAA Act prohibition on offering inducements to retailers and also describe things that are considered to be “things of value” for purposes of determining whether an inducement has been offered. Among other provisions, those regulations require alcohol beverage industry members to keep records concerning things of value furnished to retailers, identifying the item and the retailer receiving it, along with the industry member's cost and any charges to the retailer for the item. Industry members may use usual and customary commercial records to satisfy that recordkeeping requirement, and such records must be retained for 3 years, available for TTB inspection. In addition, the part 6 regulations provide that TTB may require, as part of a trade practice investigation, a letter report from an industry member regarding any advertisements, promotions, sponsorships, or other activities conducted by, on behalf of, or benefiting the industry member. This information collection is necessary to detect and prevent unfair trade practices as defined by the FAA Act, and ensure compliance with the Act's trade practice exceptions and limitations.

Current Actions: There are no changes to this collection, and TTB is submitting it for extension purposes only. However, TTB is increasing the number of annual respondents and responses reported for this collection due to an increase in the number of alcohol industry members. TTB also is reporting an increase in the burden hours for this collection's reporting requirement due to a change in agency estimates.

Type of Review: Extension of a currently approved collection.

Affected Public: Businesses and other for-profits.

Estimated Annual Burden

• Number of Respondents: 59,950 (59,940 for recordkeeping and 10 for reporting).

• Average Responses per Respondent: 1 (one response for ongoing recordkeeping for 59,940 respondents and one reporting response for 10 respondents).

• Number of Responses: 59,950 (54,940 for recordkeeping and 10 for reporting).

• Average Per-response Burden: For the 54,940 respondents required to keep records, under the OMB regulations at 5 CFR 1320.3(b)(2), there is no per-respondent burden for the keeping of the usual of customary business records required under this collection. For the 10 respondents required by TTB to submit letter reports, the estimated burden is 8 hours per response.

• Total Burden: 80 hours.

OMB Control No. 1513-0078

Title: Applications for Permit to Manufacture or Import Tobacco Products or Processed Tobacco or to Operate an Export Warehouse and Applications to Amend Such Permits.

TTB Form Numbers: TTB F 5200.3, 5200.16, 5230.4, and 5230.5.

Abstract: The IRC at 26 U.S.C. 5712 and 5713 requires that importers and manufacturers of tobacco products or processed tobacco and export warehouse proprietors apply for and obtain a permit before engaging in such operations, or at such other times, as the Secretary may prescribe by regulation. In addition, 26 U.S.C. 5712 sets forth certain circumstances under which a permit application may be denied, such as if the applicant, including any corporate officer, director, or principle stockholder, is ineligible to obtain a permit by reason of business experience, financial standing, or certain criminal convictions. Under those IRC authorities, the TTB regulations in 27 CFR parts 40, 41, and 44 require tobacco industry members to submit applications using the prescribed TTB forms for new permits or, under certain circumstances, amended permits. Applicants use those forms and any required supporting documents to identify themselves and their business, along with its location, organization, financing, and major investors. Once TTB issues a permit, the permittee must retain a copy of their application package for as long as they continue in business, available for TTB inspection upon request. This information collection is necessary to protect the revenue by ensuring that only those entities eligible for a permit under the law are provided a permit to engage in such businesses.

Current Actions: There are no changes to this information collection, and TTB is submitting it for extension purposes only. However, TTB is increasing the number of annual respondents, responses, and burden hours reported for this collection due to increases in the number of applications for amended permits.

Type of Review: Extension of a currently approved collection.

Affected Public: Businesses or other for-profits; and State, local, and tribal governments.

Estimated Annual Burden

• Number of Respondents: 470.

• Average Responses per Respondent: 1 (on occasion).

• Number of Responses: 470.

• Average Per-response Burden: 80 minutes.

• Total Burden: 627 hours.

OMB Control No. 1513-0080

Title: Distilled Spirits Plant Equipment and Structures.

TTB Recordkeeping Number: TTB REC 5110/12.

Abstract: The IRC at 26 U.S.C. 5178 and 5180 authorizes the Secretary to issue regulations regarding the location, construction, and arrangement of distilled spirits plants (DSPs), the identification of DSP structures, equipment, pipes, and tanks, and the posting of an exterior sign at their place of business. The IRC at 26 U.S.C. 5206 also requires DSP proprietors to mark containers of distilled spirits, subject to regulations prescribed by the Secretary. The TTB regulations concerning the identification of DSP plants, equipment, structures, and bulk containers are contained in 27 CFR part 19. Those regulations describe the exterior identification sign required at DSPs and the identification signs or marks on DSP structures, cookers, fermenters, stills, tanks, and other major equipment. The regulations also require tank cars and tank trucks used by DSPs as bulk conveyances for distilled spirits to be permanently and legibly marked with identifying information and capacity. The information set forth under this information collection is necessary to protect the revenue and facilitate inspections, as TTB uses the required signs and marks to identify the location, use, and capacity of a DSP's structures, equipment, and conveyances.

Current Actions: TTB is submitting this information collection for extension purposes only, and there are no changes to the collection. However, due to continued growth in the number of distilled spirits plants, TTB is increasing the number of reported respondents to this information collection.

Type of Review: Extension of a currently approved collection.

Affected Public: Businesses and other for-profits.

Estimated Annual Burden

• Number of Respondents: 3,160.

• Average Responses per Respondent: 1 per year.

• Number of Responses: 3,160.

• Average Per-response and Total Burden: None. (The placing of the signs and marks identifying DSP premises, structures, equipment, and bulk conveyances is a usual and customary business practice undertaken by DSP proprietors, regardless of any regulatory requirement to do so. Therefore, per the OMB regulations at 5 CFR 1320.3(b)(2), there is no burden associated with the collection of such usual of customary business information.)

OMB Control No. 1513-0084

Title: Labeling of Sulfites in Alcohol Beverages.

Abstract: The U.S. Food and Drug Administration (FDA) has determined that sulfating agents are human allergens that can have serious health implications for persons who are allergic to sulfites, particularly asthmatics, and, as a result, FDA regulations require food labels to declare the presence of sulfites if there are 10 parts per million (ppm) or more of a sulfating agent in a finished food product. Under the FAA Act at 27 U.S.C. 205(e), the Secretary is authorized to issue regulations requiring alcohol beverage labels to provide “adequate information” to consumers regarding the identity and quality of such products. Under that authority and consistent with FDA's food labeling requirements, the TTB alcohol beverage labeling regulations in 27 CFR part 4 (wine), part 5 (distilled spirits), and part 7 (beer) require a declaration of sulfites on the labels of alcohol beverages released from domestic bottling premises or customs custody when sulfites are present in such products at levels of 10 or more ppm. This label disclosure is necessary to protect sulfite-sensitive consumers from products that could be potentially harmful to them.

Current Actions: There are no changes to this information collection, and TTB is submitting it for extension purposes only. However, TTB is increasing the number of reported respondents, responses, and burden hours associated with this information collection due to continued growth in the number of alcohol beverage producers and importers, as well as continued growth in the number of alcohol products subject to this information collection.

Type of Review: Extension of a currently approved collection.

Affected Public: Businesses and other for-profits.

Estimated Annual Burden

• Number of Respondents: 24,700.

• Average Responses per Respondent: 1 (on occasion).

• Number of Responses: 24,700.

• Average Per-response Burden: 40 minutes.

• Total Burden: 16,467 hours.

Dated: May 15, 2019.
Amy R. Greenberg,
Director, Regulations and Rulings Division.

[FR Doc. 2019-10547 Filed 5-20-19; 8:45 am]

BILLING CODE 4810-31-P